DEPARTMENT OF ENERGY

Federal Energy Regulatory Commission

[Project No. 15299-000]

LinkPast Solutions, Inc.; Notice of Preliminary Permit Application Accepted for Filing and Soliciting Comments, Motions To Intervene, and Competing Applications

On January 25, 2023, LinkPast Solutions, Inc., filed an application for a preliminary permit, pursuant to section 4(f) of the Federal Power Act (FPA), proposing to study the feasibility of hydropower on the Black River in Jefferson County, New York. The sole purpose of a preliminary permit, if issued, is to grant the permit holder priority to file a license application during the permit term. A preliminary permit does not authorize the permit holder to perform any land-disturbing activities or otherwise enter upon lands or waters owned by others without the owners' express permission.

The proposed Great Mills Hydro Project (Plant #2) would consist of the following: (1) a new 1,850-foot-long dam (a mix of concrete gravity dam, earthen dike, and wing walls) at the site of an existing breached dam; (2) an impoundment with an approximate surface area of 140 acres and a storage capacity of 850 acre-feet at a normal pool elevation of 589.90 feet National Geodetic Vertical Datum of 1929; (4) a new 90-foot-long by 65-foot-wide reinforced concrete powerhouse housing two or more axial flow vertical turbine-generator units with a total installed capacity of 8 megawatts; (5) additional new DIVE-turbine-generator (generator directly connected to the turbine shaft that can be completely submerged) units to utilize flows below the minimum or above the maximum hydraulic capacities of the main powerhouse; (6) a new 50-foot-long by 50-foot-wide switchyard; (7) two new access roads, one on the north and the other on the south shores of the river; (8) a new 0.69-mile-long, 115-kilovolt transmission line; and (9) appurtenant facilities. The proposed project would have an average annual generation of 40,000 megawatt-hours.

Applicant Contact: Brian McArthur, LinkPast Solutions, Inc., P.O. Box 5474, Clark, New Jersey 07066; phone: (848) 628-4414.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

More information about this project, including a copy of the application, can be viewed or printed on the “eLibrary” link of the Commission's website at https://elibrary.ferc.gov/eLibrary/search. Enter the docket number (P-15299) in the docket number field to access the document. For assistance, contact FERC Online Support.

Dated: May 9, 2023.
Kimberly D. Bose,
Secretary.

[FR Doc. 2023-10355 Filed 5-15-23; 8:45 am]

BILLING CODE 6717-01-P